DEPARTMENT OF ENERGY

Federal Energy Regulatory Commission

Notice of Indo-U.S. Regulatory Workshop

April 1, 2010.

Commissioner Philip D. Moeller will convene a workshop at the Federal Energy Regulatory Commission (FERC) on Thursday, April 29, 2010, from 9 a.m. to 4 p.m., in the Commission Meeting Room at the Commission's Washington, DC headquarters, 888 First Street, NE. This workshop will provide a forum for U.S. and Indian public utility regulators to exchange information of mutual interest and to discuss regulatory challenges faced by commissioners from both nations. The FERC Commissioners, along with other invited participants, including U.S. state commissioners, the Central Electricity Regulatory Commission of India, and India's state regulatory commissions are expected to be in attendance.

This workshop is open to the public and all interested parties are invited to attend. There is no registration fee to attend and the workshop will not be webcast or transcribed.

Commission conferences are accessible under section 508 of the Rehabilitation Act of 1973. For accessibility accommodations please send an e-mail to accessibility@ferc.gov or call toll free 1-866-208-3372 (voice) or (202) 208-1659 (TTY), or send a FAX to (202) 208-2106 with the required accommodations.

Questions about the workshop may be directed to Jason Stanek, Policy Advisor, Office of Commissioner Philip Moeller, by e-mail at jason.stanek@ferc.gov or by telephone at (202) 502-8403.

Kimberly D. Bose,
Secretary.

[FR Doc. 2010-8061 Filed 4-8-10; 8:45 am]

BILLING CODE 6717-01-P